ADMINISTRATIVE CONFERENCE OF THE UNITED STATES

Notice of Public Meeting of the Committee on Adjudication of the Administrative Conference of the United States

AGENCY: Administrative Conference of the United States.

ACTION: Notice of public meeting.

SUMMARY: Notice is hereby given of a public meeting of the Committee on Adjudication of the Assembly of the Administrative Conference of the United States. At this meeting, the committee will continue consideration of the draft recommendation based on the Conference's Immigration Adjudication Project as noted below. Complete details regarding the committee meeting, the nature of the project, how to attend (including information about remote access and obtaining special accommodations for persons with disabilities), and how to submit comments to the committee can be found on the Conference's Web site, at http://www.acus.gov. Click on “Research,” then on “Committee Meetings.”

Comments may be submitted by email to Comments@acus.gov, with “Committee on Adjudication” in the subject line, or by postal mail to the appropriate committee at the address given below.

DATES: Committee on Adjudication: Monday, May 7, 2012 from 1:30 p.m. to 4:30 p.m.

ADDRESSES: The meetings will be held at 1120 20th Street NW., Suite 706 South, Washington, DC 20036.

FOR FURTHER INFORMATION CONTACT: Funmi E. Olorunnipa (Committee on Adjudication), Designated Federal Officer, Administrative Conference of the United States, 1120 20th Street NW., Suite 706 South, Washington, DC 20036; Telephone 202-480-2080; Email: folorunnipa@acus.gov.

SUPPLEMENTARY INFORMATION: A meeting of the Committee on Adjudication has been scheduled for May 7, 2012. At the meeting, the Committee on Adjudication will continue to consider and vote on the draft recommendation in the Conference's Immigration Adjudication Project. The draft recommendation is based in part on a report, prepared by Professor Lenni B. Benson (New York Law School) and Russell Wheeler (Brookings Institution), which presents the findings of a study of potential improvements to the procedures for immigration adjudication. Funmi E. Olorunnipa is the Designated Federal Officer for the committee. More information can be found in the “About” section of the Conference's Web site, at http://www.acus.gov. Click on “About,” then on “The Committees,” and then on “Committee on Adjudication.”

Dated: April 23, 2012.
Shawne C. McGibbon,
General Counsel.

[FR Doc. 2012-10094 Filed 4-26-12; 8:45 am]

BILLING CODE 6110-01-P